DEPARTMENT OF ENERGY

Federal Energy Regulatory Commission

Combined Notice of Filings

Take notice that the Commission has received the following Natural Gas Pipeline Rate and Refund Report filings:

Filings Instituting Proceedings

Docket Number: PR17-60-004.

Applicants: Atmos Pipeline-Texas.

Description: Tariff filing per 284.123(b),(e)/: PR17-60 APT 2019 Compliance Filing—Clone to be effective 9/1/2017 under PR17-60.

Filed Date: 9/23/19.

Accession Number: 201909235034.

Comments/Protests Due: 5 p.m. ET 10/15/19.

Docket Number: PR19-77-000.

Applicants: New Mexico Gas Company, Inc.

Description: Tariff filing per 284.123(b),(e)+(g): Amended Statement of Operating Conditions to be effective 7/29/2019 under PR19-77.

Filed Date: 9/24/19.

Accession Number: 201909245100.

Comments Due: 5 p.m. ET 10/15/19.

Docket Numbers: RP19-1587-000.

Applicants: Enable Gas Transmission, LLC.

Description: Annual Report of Total Penalty Revenue Credits of Enable Gas Transmission, LLC under RP19-1587.

Filed Date: 9/24/19.

Accession Number: 20190924-5061.

Comments Due: 5 p.m. ET 10/7/19.

Docket Numbers: RP19-1588-000.

Applicants: Enable Gas Transmission, LLC.

Description: Annual Report of Linked Firm Service Penalty Revenue Credits of Enable Gas Transmission, LLC under RP19-1588.

Filed Date: 9/24/19.

Accession Number: 20190924-5064.

Comments Due: 5 p.m. ET 10/7/19.

Docket Numbers: RP19-1589-000.

Applicants: Enable Mississippi River Transmission, L.

Description: Annual Report of Penalty Revenue Credits of Enable Mississippi River Transmission, LLC under RP19-1589.

Filed Date: 9/24/19.

Accession Number: 20190924-5070.

Comments Due: 5 p.m. ET 10/7/19.

Docket Numbers: RP19-1590-000.

Applicants: Honeoye Storage Corporation.

Description: Compliance filing E-Tariff Compliance Filing Adoption of NAESB Version 3.1 to be effective9/23/2019.

Filed Date: 9/24/19.

Accession Number: 20190924-5072.

Comments Due: 5 p.m. ET 10/7/19.

Docket Numbers: RP19-1591-000.

Applicants: Enable Mississippi River Transmission, L.

Description: § 4(d) Rate Filing: 2019 MRT Annual Fuel Filing to be effective 11/1/2019.

Filed Date: 9/24/19.

Accession Number: 20190924-5078.

Comments Due: 5 p.m. ET 10/7/19.

Docket Numbers: RP19-1592-000.

Applicants: Enable Gas Transmission, LLC.

Description: § 4(d) Rate Filing: Fuel Tracker Filing—Effective November 1 2019 to be effective 11/1/2019.

Filed Date: 9/24/19.

Accession Number: 20190924-5080.

Comments Due: 5 p.m. ET 10/7/19.

Docket Numbers: RP19-1593-000.

Applicants: LA Storage, LLC.

Description: Annual Penalty Disbursement Report of LA Storage, LLC under RP19-1593.

Filed Date: 9/24/19.

Accession Number: 20190924-5081.

Comments Due: 5 p.m. ET 10/7/19.

Docket Numbers: RP19-1594-000.

Applicants: Algonquin Gas Transmission, LLC.

Description: Compliance filing AGT 2019 OFO Penalty Disbursement Report to be effective N/A.

Filed Date: 9/24/19.

Accession Number: 20190924-5082.

Comments Due: 5 p.m. ET 10/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2019.
Nathaniel J. Davis Sr.,
Deputy Secretary.

[FR Doc. 2019-21336 Filed 9-30-19; 8:45 am]

BILLING CODE 6717-01-P